DEPARTMENT OF HEALTH AND HUMAN SERVICES

Health Resources and Services Administration

Advisory Council on Blood Stem Cell Transplantation; Notice of Meeting

In accordance with section 10(a)(2) of the Federal Advisory Committee Act (Pub. L. 92-463), notice is hereby given of the following meeting:

Name: Advisory Council on Blood Stem Cell Transplantation.

Date and Time: September 15, 2014, 8:00 a.m. to 4:30 p.m. (Eastern Standard Time).

Place: Fishers Lane Conference Center, Terrace Level, 5635 Fishers Lane, Rockville, MD 20852.

Status: The meeting will be open to the public.

Purpose: Pursuant to Public Law 109-129, 42 U.S.C. 274k (section 379 of the Public Health Service Act, as amended), the Advisory Council on Blood Stem Cell Transplantation (ACBSCT) advises the Secretary of the Department of Health and Human Services and the Administrator, Health Resources and Services Administration, on matters related to the activities of the C.W. Bill Young Cell Transplantation Program (Program) and the National Cord Blood Inventory Program.

Agenda: The Council will hear reports from ACBSCT Work Groups including: Realizing the Potential of Cord Blood; Access to Transplantation; and Advancing Hematopoietic Stem Cell Transplantation for Hemoglobinopathies. The Council also will hear presentations and discussions on topics including: Financial Issues Related to Stem Cell Transplantation and Quality of Care. Agenda items are subject to changes as priorities indicate.

After Council discussions, members of the public will have an opportunity to provide comments. Because of the Council's full agenda and the time frame in which to cover the agenda topics, public comment will be limited. All public comments will be included in the record of the ACBSCT meeting. Meeting summary notes will be posted on the HRSA's Program Web site at http://bloodcell.transplant.hrsa.gov/ABOUT/Advisory_Council/index.html.

Those participating in this meeting can register and view the draft meeting agenda by visiting https://www.blsmeetings.net/acbsct. The deadline to register for this meeting is Friday, September 12, 2014. For all logistical questions and concerns, please contact Anita Allen, Seamon Corporation, by calling (301) 658-3442 or by sending an email to aallen@seamoncorporation.com.

Public Comment: It is preferred that persons interested in providing an oral presentation submit a written request, along with a copy of their presentation to: Patricia Stroup, MBA, MPA, Executive Secretary, Healthcare Systems Bureau, Health Resources and Services Administration, Room 17W65, 5600 Fishers Lane, Rockville, Maryland 20857 or email at pstroup@hrsa.gov. Requests should contain the name, address, telephone number, email address, and any business or professional affiliation of the person desiring to make an oral presentation. Groups having similar interests are requested to combine their comments and present them through a single representative.

The allocation of time may be adjusted to accommodate the level of expressed interest. Persons who do not file an advance request for a presentation, but desire to make an oral statement, may request this at the time of the public comment period. Public participation and ability to comment will be limited to time as it permits.

For Further Information Contact:

Patricia Stroup, MBA, MPA, Executive Secretary, Healthcare Systems Bureau, Health Resources and Services Administration, 5600 Fishers Lane, Room 17W63, Rockville, Maryland 20857; telephone (301) 443-1127.

Dated: August 8, 2014.
Jackie Painter,
Acting Director, Division of Policy and Information Coordination.

[FR Doc. 2014-19218 Filed 8-13-14; 8:45 am]

BILLING CODE 4165-15-P